DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | * Elevation in feet (NGVD) + Elevation in feet (NAVD) # Depth in feet above ground Modified | Communities affected
Person County, North Carolina and Incorporated Areas
Docket No.: FEMA-D-7570,D-7582, and FEMA-D-7668
Alderidge Creek | At the upstream side of Berry Road | +527 | Person County (Unincorporated Areas).
| Approximately 0.7 mile upstream of Satterfield Road | +536
Alderidge Creek Tributary | At the confluence with Alderidge Creek | +530 | Person County (Unincorporated Areas).
| Approximately 0.3 mile upstream of the confluence with Alderidge Creek | +535
Big Blue Wing Creek | Approximately 1,300 feet downstream of High View Church Road (State Route 1509) | +403 | Person County (Unincorporated Areas).
| Approximately 0.7 mile upstream of Tatum Road (State Route 1511) | +506
Big Blue Wing Tributary 1 | Approximately 2,000 feet downstream of Wind Dancer Lane | +399 | Person County (Unincorporated Areas).
| Approximately 0.4 mile upstream of Epps-Martin Road (State Route 1506) | +450
Bowes Branch | At the Virginia/North Carolina State boundary | +361 | Person County (Unincorporated Areas).
| Approximately 1,440 feet upstream of Virginia/North Carolina State boundary | +368
Bredlov Creek | At the confluence with Big Blue Wing Creek | +407 | Person County (Unincorporated Areas).
| Approximately 1,400 feet upstream of the confluence with Big Blue Wing Creek | +413
Broachs Mill Creek | At the confluence with South Hyco Creek | +433 | Person County (Unincorporated Areas).
| Approximately 0.9 mile upstream of Hester's Store Road (State Route 1162) | +515
Bushy Fork Creek | Approximately 600 feet downstream of Charlie Long Road | +571 | Person County (Unincorporated Areas).
| Approximately 1.1 miles upstream of Bradsher Road | +616
Bushy Fork Creek Tributary | At the confluence with Bushy Fork Creek | +606 | Person County (Unincorporated Areas).
| Approximately 0.38 mile upstream of the confluence with Bushy Fork Creek | +622
Byrds Creek | Approximately 850 feet upstream of the confluence with South Flat River | +546 | Person County (Unincorporated Areas).
| Approximately 1.0 mile upstream of the confluence with South Flat River | +558
Castle Creek | At the confluence with Hyco River | +360 | Person County (Unincorporated Areas).
| Approximately 790 feet downstream of Shiloh Church Road (State Route 1322) | +394
Cattail Branch | At the confluence with Big Blue Wing Creek | +428 | Person County (Unincorporated Areas).
| Approximately 1,750 feet upstream of the confluence with Big Blue Wing Creek | +437
Cobbs Creek | Approximately 0.8 mile upstream of the confluence with Hyco Lake | +414 | Person County (Unincorporated Areas).
| At the Person/Caswell County boundary | +510
Cub Creek Tributary 1 | At the Person/Granville County boundary | +477 | Person County (Unincorporated Areas).
| Approximately 0.6 mile upstream of the confluence of Cub Creek Tributary 2 | +499
Cub Creek Tributary 2 | At the confluence with Cub Creek Tributary 1 | +490 | Person County (Unincorporated Areas).
| Approximately 1,500 feet upstream of the confluence with Cub Creek Tributary 1 | +496
Deep Creek | At the Person/Durham County boundary | +419 | Person County (Unincorporated Areas).
| Approximately 1.0 mile upstream of Mollie Moonie Road | +561
Deep Creek Tributary | At the confluence with Deep Creek | +477 | Person County (Unincorporated Areas).
| Approximately 2,000 feet upstream of the confluence with Deep Creek | +485
Deep Creek Tributary 2 | At the confluence with Deep Creek | +516 | Person County (Unincorporated Areas).
| Approximately 1,000 feet upstream of the confluence with Deep Creek | +520
Dial Creek | At the Person/Durham County boundary | +515 | Person County (Unincorporated Areas).
| Approximately 400 feet upstream of the Person/Durham County boundary | +519
Flat River Tributary 5 | At the confluence with Flat River | +474 | Person County (Unincorporated Areas).
| At the Person/Durham County boundary | +496
Ghents Creek | At the confluence with Hyco River | +367 | Person County (Unincorporated Areas).
| Approximately 1,400 feet upstream of Edwin Robertson Road (State Route 1322) | +387
Hyco River | Approximately 1.4 miles downstream of Railroad | +358 | Person County (Unincorporated Areas).
| At the Hyco Dam | +380
Hyco River Tributary 1 | At the confluence with Hyco River | +380 | Person County (Unincorporated Areas).
| Approximately 600 feet upstream of the confluence with Hyco River | +380
Lick Creek 1 | At the upstream side of Ashley Road | +533 | Person County (Unincorporated Areas).
| At the Person/Orange County boundary | +545
Marlowes Creek | At the upstream side of Cavel Chub Lake Road | +469 | Person County (Unincorporated Areas), City of Roxboro.
| Approximately 860 feet upstream of Depot Street | +610 |
Marlowes Creek Tributary 1 | At the confluence with Marlowes Creek | +469 | Person County (Unincorporated Areas).
| Approximately 840 feet upstream of Chub Lake Road (State Route 1337) | +680
Marlowes Creek Tributary 1A | At the confluence with Marlowes Creek Tributary 1 | +490 | Person County (Unincorporated Areas).
| Approximately 0.5 mile upstream of Chub Lake Road (State Route 1337) | +656
Marlowes Creek Tributary 2 | At the confluence with Marlowes Creek | +552 | Person County (Unincorporated Areas), City of Roxboro.
| Approximately 0.5 mile upstream of Broad Road (State Route 1534) | +617
Mayo Creek | Approximately 740 feet downstream of Mayo Lake Road (State Route 1501) | +349 | Person County (Unincorporated Areas).
| Approximately 0.8 mile upstream of Denny's Store Road (State Route 1536) | +511
Mayo Creek Tributary 14 | At the confluence with Mayo Creek | +444 | Person County (Unincorporated Areas).
| Approximately 1,300 feet upstream of the confluence with Mayo Creek | +444
Mayo Creek Tributary 15 | At the confluence with Mayo Creek | +450 | Person County (Unincorporated Areas).
| Approximately 0.5 mile upstream of the confluence with Mayo Creek | +475
Mill Creek | Approximately 400 feet downstream of Street's Store Road (State Route 1519) | +445 | Person County (Unincorporated Areas).
| Approximately 530 feet upstream of Todd Road (State Route 1547) | +559
North Flat River | Approximately 500 feet upstream of Paynes Tavern Road | +604 | Person County (Unincorporated Areas).
| Approximately 1.2 miles upstream of Paynes Tavern Road | +617
North Flat River Tributary | Just upstream of Railroad crossing | +542 | City of Roxboro, Person County (Unincorporated Areas).
| Approximately 1.0 mile upstream of U.S. HWY 158 | +711
North Flat River Tributary 2 | Approximately 600 feet upstream of the confluence with North Flat River | +580 | City of Roxboro, Person County (Unincorporated Areas).
| Approximately 1.0 mile upstream of Industrial Drive | +701
North Flat River Tributary 3 | At the confluence with North Flat River | +604 | Person County (Unincorporated Areas).
| Approximately 325 feet upstream of Noah Davis Road | +625
North Flat River Tributary 5 | At the confluence with North Flat River Tributary | +582 | Person County (Unincorporated Areas).
| Approximately 0.7 mile upstream of the confluence with North Flat River Tributary | +600
North Flat River Tributary 7 | At the confluence with North Flat River Tributary 2 | +592 | Person County (Unincorporated Areas).
| Approximately 0.9 mile upstream of the confluence with North Flat River Tributary 2 | +607
North Flat River Tributary 8 | At the confluence with North Flat River Tributary 2 | +595 | Person County (Unincorporated Areas).
| Approximately 825 feet upstream of Hurdle Mills Road | +606
North Flat River Tributary 9 | At the confluence with North Flat River Tributary 2 | +608 | Person County (Unincorporated Areas).
| Approximately 0.9 mile upstream of the confluence with North Flat River Tributary 2 | +649
Powells Creek | At the confluence with Hyco River | +367 | Person County (Unincorporated Areas).
| Approximately 0.7 mile upstream of the confluence with Hyco River | +367
Rock Fork | At the confluence with Deep Creek | +445 | Person County (Unincorporated Areas).
| Approximately 0.7 mile upstream of the confluence with Deep Creek | +453
Satterfield Creek | At the confluence with Storys Creek | +489 | Person County (Unincorporated Areas).
| Approximately 0.9 mile upstream of confluence with Storys Creek | +491
South Flat River | At the upstream side of Jim Morton Road | +618 | Person County (Unincorporated Areas).
| Approximately 1.1 miles upstream of Jim Morton Road | +627
South Flat River Tributary | Approximately 100 feet upstream of the confluence with South Flat River | +491 | Person County (Unincorporated Areas).
| Approximately 500 feet upstream of U.S. HWY 501/State Route 57 | +508
South Flat River Tributary 3 | Approximately 0.3 mile upstream of the confluence with South Flat River | +517 | Person County (Unincorporated Areas).
| Approximately 0.6 mile upstream of the confluence with South Flat River | +522
South Flat River Tributary 4 | Approximately 1,400 feet upstream of the confluence with South Flat River | +593 | Person County (Unincorporated Areas).
| Approximately 0.8 mile upstream of the confluence with South Flat River | +602
South Flat River Tributary 5 | Approximately 1,200 feet upstream of the confluence with South Flat River | +603 | Person County (Unincorporated Areas).
| Approximately 575 feet upstream of Briggs Road | +617
South Hyco Creek | At the upstream side of John Brewer Road (State Route 1343) | +415 | Person County (Unincorporated Areas).
| Approximately 1.0 mile upstream of State Highway 49 | +543
South Hyco Creek Tributary 2 | At the confluence with South Hyco Creek | +516 | Person County (Unincorporated Areas).
| Approximately 1,900 feet upstream of the confluence with South Hyco Creek | +553
South Hyco Creek Tributary 8 | At the confluence with South Hyco Creek | +540 | Person County (Unincorporated Areas).
| Approximately 400 feet upstream of Jones Road (State Route 1100) | +602
Storys Creek | At the confluence with Hyco River | +366 | Person County (Unincorporated Areas).
| Approximately 1.2 miles upstream of City Lake Road (State Route 1336) | +489
Tanyard Branch | At the downstream side of Railroad | +570 | City of Roxboro.
| Approximately 1,300 feet upstream of North Morgan Street | +658
Tar River | At the Person/Granville County boundary | +499 | Person County (Unincorporated Areas).
| Approximately 0.5 mile upstream of Gentry Road | +551
Tar River Tributary 5 | At the confluence with the Tar River | +510 | Person County (Unincorporated Areas).
| Approximately 150 feet upstream of Depot Street | +541
# Depth in feet above ground
* National Geodetic Vertical Datum
+ North American Vertical Datum
ADDRESSES
City of Roxboro
Maps are available for inspection at the Roxboro City Planning Department, 105 South Lamar Street, Roxboro, North Carolina.
Person County (Unincorporated Areas)
Maps are available for inspection at the Person County Planning and Zoning Department, 20A Court Street, Roxboro, North Carolina.

(Catalog of Federal Domestic Assistance No. 83.100, “Flood Insurance.”)

Dated: December 22, 2006.
David I. Maurstad,
Director Mitigation Division, Federal Emergency Management Agency, Department of Homeland Security.

[FR Doc. E6-22522 Filed 1-3-06; 8:45 am]

BILLING CODE 9110-12-P